DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR part 1320, Reporting and Record Keeping Requirements, the National Park Service (NPS) invites public comments on a proposed new collection of information (1024-xxxx).

DATES: Public comments on the proposed Information Collection Request (ICR) will be accepted on or before January 4, 2007.

ADDRESSES: Send Comments to: Dr. Jane Swanson, Protected Area Social Research Unit, College of Forest Resources, University of Washington, Seattle, WA 98195; via phone at 206/685-9150; via fax at 206/685-0790, or via e-mail at swansonj@u.washington.edu. Also, you may send comments to Leonard Stowe, NPS Information Collection Clearance Officer, 1849 C St., NW., (2605), Washington, DC 20240, or by e-mail at Leonard_Stowe@nps.gov. All responses to this notice will be summarized and included in the request for the Office of Management and Budget (OMB) approval. All comments will become a matter of public record.

To Request a Draft of Proposed Collection of Information Contact: Dr. Jane Swanson, Protected Area Social Research Unit, College of Forest Resources, University of Washington, Seattle, WA 98195; via phone at 206/685-9150; or via e-mail at swansonj@u.washington.edu.

FOR FURTHER INFORMATION CONTACT: Dr. James Gramann, National Park Service Social Science Program, 1201 “Eye” St., Washington, DC 20005; via phone 202-513-7189; or via e-mail at James_Gramann@partner.nps.gov. You are entitled to a copy of the entire ICR package free of charge.

SUPPLEMENTARY INFORMATION: Title: Research Assessing Current and Potential Impacts of Cruise Ships on Visitor Experiences in Glacier Bay National Park and Preserve.

Bureau Form Number(s): None.

OMB Number: To be requested.

Expiration Date: To be requested.

Type of Request: New collection.

Description of Need: The proposed study would provide information to be used in deciding cruise ship use levels in Glacier Bay National Park. The purpose of this research is to provide Park managers with information about current impacts of cruise ships, if any, on the quality of visitor experience and to estimate potential impacts on the quality of visitor experience for cruise ship use levels specified in the Record of Decision (Record of Decision for Vessel Quotas and Operating Requirements in Glacier Bay National Park and Preserve, 2003).

The Final Environmental Impact Statement for Vessel Quotas and Operating Requirements, and the resulting Record of Decision signed November 21, 2003, currently guide vessel management in Glacier Bay National Park and Preserve (GLBA). The Record of Decision (Record of Decision for Vessel Quotas and Operating Requirements in Glacier Bay National Park and Preserve, 2003) adopted an alternative that maintains the current daily maximum of two cruise ships in the park and sets seasonal use days for the June-August season at 139 ships. The Record of Decision also provides for possible increases in cruise ship use. Specifically, use in the June-August season could be increased to two ships per day, every day for a seasonal use total of 184 ships. The Record of Decision for Vessel Quotas and Operating Requirements in Glacier Bay National Park and Preserve (2003) provided the following direction for the role of research in the process of changing quotas for cruise ships.

The determination of whether to increase seasonal-use day quotas for cruise ships will rely on criteria that define the environmental and social conditions to be met before any additional seasonal-use days are approved. These criteria will be based on the results of and guidance provided through studies that examine the effects of vessels on all park resources and visitor experience. (p.18).

The Record of Decision also specified that the studies examining the effects of cruise ships would be identified with the assistance of a Glacier Bay Vessel Management Science Advisory Board (SAB). The SAB was established and a final report of their findings and recommendations was published in September 2005 (Glacier Bay National Park Science Advisory Board: Final Report, 2005). The SAB recommended a comprehensive research program that was presented in general terms with no prioritization or cost estimates. Because the research program outlined in the SAB could not be performed within the time and budget limitations facing park managers, the SAB recommended (and park managers agreed to fund) a social research problem analysis. Upon review of the final Program Analysis, park staff decided on a research program that would focus primarily on measuring impacts of cruise ships, if any, on the quality of visitor experience and secondarily on understanding the context in which cruise ship impacts occur and how these impacts arise. To accomplish these objectives, this proposed research includes the following components. (1) Assessment of cruise ship impacts, if any, on the quality of visitor experience. (2) The role of experience gatekeepers in visitor encounters with cruise ships.

1. Assessing impacts of cruise ships, if any, on the quality of visitor experiences in Glacier Bay proper.

The purpose of the proposed study is to provide park managers with information about a variety of potential impacts of cruise ships on all visitor groups that have potential to encounter a cruise ship in Glacier Bay proper. Information about impacts of other mechanized transport, if any, on the quality of visitor experience will also be collected (1) to provide a context for understanding the role of cruise ships on the quality of visitor experience and (2) to examine aggregate effects of mechanized transport on the quality of visitor experience. This research proposed for the 2008 summer season, will use on-site and mail questionnaires to gather data for estimating impact rates for different user groups. Additionally, in-depth interviews with visitors will provide additional information about how these impacts arise and visitors' opinions of increasing cruise ship size. Finally, itinerary data will be collected from captains of charter and tour boats and from kayak guides to obtain more reliable itinerary data than visitors aboard these vessels would likely provide.

2. The role of experience gatekeepers in visitor encounters with cruise ships.

Discussions with experience providers indicate that these individuals may adjust itineraries in an effort to provide visitors with a particular experience. Often that experience is one where few other vessels are encountered. Understanding these practices and how the increase in 2-cruise-ship days may affect them are the primary objectives of this research component. This information will be integral when estimating population impacts under the 2-cruise-ships every day scenario. Gatekeepers identified include charter and tour boat captains, kayak guides, and VIS staff who issue permits and provide guidance to kayakers and captains of private vessels. Interviews, to be conducted during the summer 2008 use season, will rely on an open-ended, in-depth process.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Automated data collections: This information will be collected via in-person interviews and surveys. No automated data collection will take place.

Description of respondents: Component 1—survey and interviews: Cruise ship passengers, tour boat passengers, charter boat passengers, people entering on private vessel permits, and people entering on backcountry permits who visit Glacier Bay proper between June 1, 2008 and August 31, 2008.

Component 1—itinerary data: Charter and tour boat captains and kayak guides who serve visitors included in the survey component of the project.

Component 2: Charter and tour boat captains, kayak guides, and VIS staff who serve visitors to Glacier Bay proper during the 2008 summer season.

Estimated average number of respondents: Component 1: 2780 respondents for on-site survey; 1492 respondents for mail survey; 75 respondents for interviews; 24 respondents for itinerary date. Component 2: 27.

Estimated average number of responses: Component 1: 2780 respondents for on-site survey, 1492 respondents for mail survey; 75 respondents for interview; 24 respondents for itinerary data.

Component 2: 27.

Estimated average burden hours per response: Component 1: 3 minutes for on-site survey respondents; 25 minutes for mail questionnaire; 60 minutes for interview respondents; 15 minutes for itinerary respondents. Component 2: 30 minutes.

Frequency of Response: 1 time per respondent.

Estimated total annual reporting burden: 855 hours.

Dated: September 13, 2007.
Leonard E. Stowe,
NPS, Information Collection Clearance Officer.

[FR Doc. 07-5464 Filed 11-2-07; 8:45 am]

BILLING CODE 4312-52-M